DEPARTMENT OF COMMERCE

Foreign-Trade Zones Board

[Doc. 10-2011]

Foreign-Trade Zone 274, Butte, Montana, Manufacturing Authority, REC Silicon, (Polysilicon and Silane Gas); Notice of Approval

On February 11, 2011, an application was submitted by the City and County of Butte-Silver Bow, grantee of Foreign-Trade Zone (FTZ) 274, requesting authority on behalf of REC Silicon to manufacture polysilicon and silane gas under FTZ procedures within Site 1 of FTZ 274 in Butte, Montana. The request was given notice in the Federal Register inviting public comment (Docket 10-2011, 76 FR 9320, 2/17/2011).

Section 400.32(b)(1)(i) of the FTZ Board's regulations (15 CFR part 400) allows the Assistant Secretary for Import Administration to act for the Board in making decisions on new manufacturing authority when the activity is the same, in terms of products involved, to activity recently approved by the Board and similar in circumstances. Pursuant to that regulatory provision, on June 22, 2011, the Assistant Secretary for Import Administration approved authority for REC Silicon's manufacturing activity, subject to the FTZ Act (19 U.S.C. 81a-81u) and the Board's regulations, including Section 400.28, and further subject to a restriction prohibiting the admission of foreign status silicon metal subject to an antidumping or countervailing duty order.

Dated: June 22, 2011.
Andrew McGilvray
Executive Secretary.

[FR Doc. 2011-16335 Filed 6-28-11; 8:45 am]

BILLING CODE ;P